COMMODITY FUTURES TRADING COMMISSION

Sunshine Act Meeting

Time and Date: 2 p.m., Tuesday, October 21, 2003.

Place: 1155 21st. St., NW., Washington, DC, Room 1012.

Status: Closed.

Matters To be Considered: Enforcement matters.

Contact Person for More Information: Jean A. Webb, 202-418-5100.

Jean A. Webb,
Secretary of the Commission.

[FR Doc. 03-25971 Filed 10-8-03; 4:10 am]

BILLING CODE 6351-01-M